FEDERAL COMMUNICATIONS COMMISSION

47 CFR Part 25

[IB Docket No. 00-91; FCC 00-340]

Availability of Intelsat Space Segment Capacity

AGENCY: Federal Communications Commission.

ACTION: Final rule.

SUMMARY: The Federal Communications Commission has determined that users and service providers do not have sufficient opportunity to access INTELSAT space segment capacity directly from INTELSAT to meet their service and capacity requirements. The Commission also has required Comsat to enter into commercial negotiations with direct access customers to attempt to resolve satellite capacity allocation issues.

DATES: Effective October 6, 2000 written comments by the public on the new information collections are due December 5, 2000.

ADDRESSES: Office of the Secretary, Federal Communications Commission, 445 Twelfth Street, SW, Washington, DC, 20554. Comments may be filed using the Commission's Electronic Comment Filing System (ECFS) or by filing paper copies. See Electronic Filing of Documents in Rulemaking Proceedings, 63 FR 24121 (May 1, 1998). Comments filed through the ECFS can be sent via the Internet to http://www.fcc.gov/e-file/ecfs.html. Generally, only one copy of an electronic submission must be filed. If multiple docket or rulemaking numbers appear in the caption proceeding, however, commenters must transmit one copy of the comments to each docket or rulemaking number referenced in the caption. In completing the transmittal screen, commenters should include their full name, Postal Service mailing address, and the applicable docket or rulemaking number. Parties may also submit an electronic comment by Internet e-mail. To get filing instructions for e-mail comments, commenters should send an e-mail to ecfs@fcc.gov, and should include the following words in the body of the message, “get form@your e-mail address.” A sample form and directions will be sent in reply.

A copy of any comments on the information collection requirements should be submitted to Judy Boley, Federal Communications Commission, Room 1-C804, 445 12th Street, SW, Washington, DC, 20554, or via the Internet to jboley@fcc.gov.

FOR FURTHER INFORMATION CONTACT: James Ball, International Bureau, (202) 418-0427; Steven Spaeth, Satellite Policy Branch, Satellite and Radiocommunication Division, International Bureau, (202) 418-1539. A copy of any comments on the information collections contained herein should be submitted to Judy Boley, Federal Communications Commission, Room 1-C804, 445 12th Street, SW, Washington, DC 20554, or via the Internet to jboley@fcc.gov.

SUPPLEMENTARY INFORMATION: This is a summary of the Commission's Report and Order, adopted September 13, 2000, and released September 19, 2000. The full text of this Commission decision is available for inspection and copying during normal business hours in the FCC Reference Information Center, Room CY-A257, 445 12th St., SW, Washington, DC 20554. The complete text of this decision may also be purchased from the Commission's copy contractor, International Transcription Service, 1231 20th St., NW, Washington, DC 20036.

The Commission is required to conduct this rulemaking pursuant to the recently enacted Open-Market Reorganization for the Betterment of International Telecommunications Act (ORBIT Act). Section 641(b) of the Communications Satellite Act of 1962, as amended by the ORBIT Act, requires the Commission to determine whether “sufficient opportunity” exists for users and service providers “to access INTELSAT space segment capacity directly from INTELSAT to meet their service and capacity requirements.” If the Commission finds that “sufficient opportunity” does not exist, the Commission is required to “take appropriate action to facilitate direct access,” and otherwise “to take such steps as may be necessary to prevent circumvention of the intent” of this section. Section 641(c) states that “nothing in this section shall be construed to permit the modification or abrogation of any contract.”

In 1999, the Commission permitted users and service providers in the United States to obtain Level 3 direct access to INTELSAT space segment capacity. Direct Access to the INTELSAT System, Report and Order, 64 FR 54561 (October 7, 1999). Level 3 direct access permits non-Signatory users and service providers to enter into contractual agreements with INTELSAT for space segment capacity at the same rates that INTELSAT charges its Signatories. The subsequently enacted ORBIT Act mandates that users and providers of telecommunications services shall be permitted to obtain Level 3 direct access to INTELSAT and requires the Commission to conduct this rulemaking.

The Commission issued a Notice of Proposed Rulemaking in this proceeding. Availability of INTELSAT Space Segment Capacity to Users and Service Providers Seeking to Access INTELSAT Directly, Notice of Proposed Rulemaking, 65 FR 35312 (June 2, 2000). The Commission concludes that users and service providers currently do not have sufficient opportunity for direct access. This is because most of INTELSAT's current U.S.-accessible capacity is subject to Comsat control, or is committed to other INTELSAT Signatories. In addition, a significant portion of INTELSAT's uncommitted capacity is fragmented into small amounts of bandwidth, and therefore may not be useful for many purposes.

Although INTELSAT plans to launch new satellites and to redeploy existing satellites to make more capacity available by 2003, the Commission cannot determine whether there will be sufficient opportunity for direct access in the future. Most of the new capacity will be concentrated at three orbital locations. It is not clear from the record in this proceeding whether capacity at those locations will meet the needs of direct access users. Furthermore, Comsat can renew the contracts covering the capacity currently under its control, so that there is no way to determine how much of that capacity will become available for direct access in the future.

The Commission also concludes that the “appropriate action” the Commission should adopt is a “commercial solution.” In other words, the Commission requires the parties to attempt to negotiate mutually agreeable arrangements, and to report back by March 13, 2001 on the progress of those negotiations. Finally, the Commission concludes that the Commission may adopt a “regulatory solution” if “commercial solutions” are unavailable. The draft does not foreclose any regulatory option at this time.

This Report & Order contains new information collections subject to the Paperwork Reduction Act of 1995 (PRA), Public Law 104-13. It will be submitted to the Office of Management and Budget (OMB) for review under Section 3507(d) of the PRA. OMB, the general public, and other Federal agencies are invited to comment on the new or modified information collections contained in this proceeding.

Paperwork Reduction Act

This Report and Order contains new information collections. The Commission, as part of its continuing effort to reduce paperwork burdens, invites the general public to comment on the information collections contained in this R&O as required by the Paperwork Reduction Act of 1995, Public Law 104-13. Public and agency comments are due December 5, 2000. Comments should address: (a) Whether the new or modified collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology.

OMB Control Number: 3060-XXXX (new collection).

Title: Availability of INTELSAT Space Segment Capacity to Users and Service Providers Seeking to Access INTELSAT Directly.

Type of Review: New collection.

Respondents: Business or other for-profit entities.

Number of Respondents: 10.

Estimated Time per Response: Two hours.

Frequency of Response: One time only.

Total Annual Burden: 20 hours.

Total Annual Costs: $3000.

Needs and Uses: This data collection is necessary to enable the Commission to evaluate the decisions made in this Report and Order.

Regulatory Flexibility Analysis: As required by the Regulatory Flexibility Act (RFA), ¹ an Initial Regulatory Flexibility Analysis (IRFA) was incorporated in the Notice. The Commission then sought written public comment in that proceeding, including comments on the IRFA. No party filed comments in response to the IRFA. Further, this Report and Order promulgates no new rules and our action here does not affect the previous analysis in the Notice.

¹ See 5 U.S.C. 603. The RFA, see 5 U.S.C. 601 et seq., has been amended by the Contract With America Advancement Act of 1996, Public Law 104-121, 110 Stat. 847 (1996) (“CWAAA”). Title II of the CWAAA is the Small Business Regulatory Enforcement Fairness Act of 1996 (“SBREFA”).

Ordering Clauses

Accordingly, pursuant to Sections 102(c), 210(c)(2), 201(c)(11), and 641 of the Communications Satellite Act of 1962, as amended, 47 U.S.C. 721(c), 741(c)(2), 741(c)(11), 765, and Sections 1, 2, 4(c), 201, 202, 214, 301, 303, 307, 308, and 309 of the Communications Act of 1934, as amended, 47 U.S.C. 151, 152, 154(c), 201, 202, 214, 301, 303, 307, 308, and 309, that the requirements and policies are adopted.

Comsat Corporation shall file the report discussed in this Order on or before March 13, 2001.

Authority is delegated to the Chief, International Bureau, as specified herein, to effect the decisions set forth above.

The Motion for Extension of Time filed by Comsat Corporation on July 24, 2000, is granted.

Federal Communications Commission.
William F. Caton,
Deputy Secretary.

[FR Doc. 00-25740 Filed 10-5-00; 8:45 am]

BILLING CODE 6712-01-U